DEPARTMENT OF EDUCATION

Docket No.: ED-2025-SCC-0349]

Agency Information Collection Activities; Comment Request; 84.421F Disability Innovation Fund (DIF) Evidence Building Support (EBS)

AGENCY: Office of Special Education and Rehabilitative Services (OSERS), Department of Education (ED).

ACTION: Notice.

SUMMARY: In accordance with the Paperwork Reduction Act (PRA) of 1995, the Department is proposing a new information collection request (ICR).

DATES: Interested persons are invited to submit comments on or before October 20, 2025.

ADDRESSES: To access and review all the documents related to the information collection listed in this notice, please use http://www.regulations.gov by searching the Docket ID number ED-2025-SCC-0349. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Director of the Training and Service Programs Division, U.S. Department of Education, 400 Maryland Ave. SW, LBJ, Room 4B103, Washington, DC 20202-1200.

FOR FURTHER INFORMATION CONTACT: For specific questions related to collection activities, please contact Diandrea Bailey, 202-987-0126.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 84.421F Disability Innovation Fund (DIF) Evidence Building Support (EBS).

OMB Control Number: 1820-NEW.

Type of Review: A new ICR.

Respondents/Affected Public: Individuals and Households.

Total Estimated Number of Annual Responses: 24.

Total Estimated Number of Annual Burden Hours: 36.

Abstract: The U.S. Department of Education's Rehabilitation Services Administration (RSA) requests clearance for a new data collection activity to support the 84.421F Disability Innovation Fund (DIF) Evidence-Building Support (EBS) project. The purpose of the DIF, as provided by the Consolidated Appropriations Act, 2023 (Pub. L. 117-328), is to support innovative activities aimed at increasing competitive integrated employment (CIE) as defined in section 7 of the Rehabilitation Act of 1973 (Rehabilitation Act) (29 U.S.C. 705(5)) for children, youth, and other individuals with disabilities. RSA is investing a total of $251,934,086 in grant funding to the 27 State Vocational Rehabilitation (VR), other State agencies, Public, Private and Nonprofit Entities, including Indian Tribes and Institutions of Higher Education through the 84.421F DIF program.

This request covers the following single primary data collection for the EBS:

• Annual interviews with 84.421F DIF project directors.

In September 2024, RSA awarded five-year cooperative agreements to 27 State VR, other State agencies, Public, Private and Nonprofit Entities, including Indian Tribes and Institutions of Higher Education to implement model demonstration projects. The projects vary across the 27 grants but they share the same purpose, which is to develop, implement, refine, assess, and disseminate innovative or substantially improved strategies or programs geared toward increasing CIE for individuals with disabilities. RSA is conducting evaluation and technical assistance (TA) activities and will report on implementation and evaluation progress across all grantees in Annual Evidence Reports. This report will also document findings that RSA can use to coordinate ongoing activities and communicate with outside agencies and congressional staff. To supplement the existing data sources, RSA will conduct one annual semi-structured interviews with the individual grantee project directors in grant Years 2, 3, 4 and 5 (Calendar Year (CY) 2025-CY 2029). These interviews will provide valuable qualitative insights into overall project goals, implementation progress, and the barriers and facilitators encountered—information that is not captured through administrative data reporting alone. This richer understanding will help fill critical gaps and will support the development of the Annual Evidence Report, inform evaluations, coordination, and evaluation technical assistance efforts.

Ross Santy,
Chief Data Officer, Office of Planning, Evaluation and Policy Development.

[FR Doc. 2025-15721 Filed 8-18-25; 8:45 am]

BILLING CODE 4000-01-P